DEPARTMENT OF THE DEFENSE

Department of the Army, Corps of Engineers

Withdrawal of the Notice of Intent To Prepare an Environmental Impact Statement for the Nassau County Back Bay Coastal Storm Risk Management Feasibility Study

AGENCY: U.S. Army Corps of Engineers, DoD.

ACTION: Notice of intent; withdrawal.

SUMMARY: The U.S. Army Corps of Engineers, Philadelphia District, Planning Division is notifying interested parties that it has withdrawn the Notice of Intent (NOI) to develop an environmental impact statement (EIS) for the proposed Nassau County Back Bay (NCBB) Coastal Storm Risk Management (CSRM) Feasibility Study. The original NOI to prepare an EIS was published in the Federal Register on Friday, April 21, 2017. An Environmental Assessment (EA) will be prepared instead of an EIS.

DATES: The notice of intent to prepare an EIS published in the Federal Register on April 21, 2017 (82 FR 18746), is withdrawn as of June 8, 2020.

ADDRESSES: U.S. Army Corps of Engineers, Philadelphia District, Environmental Resources Branch, (CENAP-PL-E), 100 Penn Square East, Wanamaker Building, Philadelphia, PA 19107-3390.

FOR FURTHER INFORMATION CONTACT: Questions regarding the withdrawal of this NOI should be addressed to Ms. Angela Sowers, 410-962-7440, or angela.sowers@usace.army.mil.

SUPPLEMENTARY INFORMATION: On March 20, 2018, the Office of Management and Budget (OMB) and the Council on Environmental Quality (CEQ) issued an OMB/CEQ Memorandum for Heads of Federal Departments and Agencies titled “One Federal Decision Framework for the Environmental Review and Authorization Process for Major Infrastructure Projects under Executive Order [E.O.] 13807.” Additionally, twelve Federal agencies, including Department of the Army, signed a Memorandum of Understanding (MOU) as an appendix to the OMB/CEQ Memorandum. The MOU is titled “Memorandum of Understanding Implementing One Federal Decision Under Executive Order 13807” and was effective on April 10, 2018. E.O. 13807 sets a goal for agencies by reducing the time for completing environmental reviews and authorization decisions to an agency average of not more than two years from publication of a NOI to prepare an EIS.

Subsequent to the publication of the NOI, the NCBB CSRM Feasibility Study was granted an exemption from the requirement to complete the feasibility study within 3 years, as required in Section 1001(a) of the Water Resources Reform and Development Act of 2014. This exemption was granted on 5 February 2020. Therefore, in order to align the revised study schedule with E.O. 13807, it is necessary to withdraw the existing NOI to develop and re-scope a NEPA coordination/review schedule with the appropriate Federal and state resource agencies that have statutory jurisdiction over the review process for any action being contemplated in the course of the feasibility study and development of an environmental impact statement. The exemption was contingent on reducing the scope of the study to focus on critical infrastructure and highly vulnerable areas outside of Coastal Barrier Resources Act units. Due to the resulting limited scope, it is appropriate at this time to prepare an EA rather than an EIS. Should information be identified during the study to support the need for an EIS, a NOI will be issued at a future time. Public, agency and stakeholder comments and feedback will continue to be accepted during the re-scoping of the NEPA review schedule.

Dated: June 2, 2020.
Karen J. Baker,
Programs Director, North Atlantic Division.

[FR Doc. 2020-12309 Filed 6-5-20; 8:45 am]

BILLING CODE 3720-58-P